DEPARTMENT OF LABOR

Employment and Training Administration

[TA-W-59,999]

Paxar Corporation Graphics Division, Huber Heights, OH; Now a Subsidiary of Avery Dennison Corporation Now Located In Miamisburg, OH; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 14, 2006, applicable to workers of Paxar Corporation, Graphics Division, Huber Heights, Ohio. The notice was published in the Federal Register on September 26, 2006 (71 FR 56172).

At the request of a company official, the Department reviewed the certification for workers of the subject firm. The workers are engaged in the production of printed paper tags and other printed products that are used for apparel identification.

New information shows that on June 15, 2007, Paxar Corporation merged with Avery Dennison and is now known as Paxar Corporation, a subsidiary of Avery Dennison Corporation. Information also shows that the subject firm previously located in Huber Heights, Ohio has relocated to Miamisburg, Ohio.

Workers separated from employment at the subject firm will continue to have their wages reported under the unemployment insurance (UI) tax account for Paxar Corporation through 2007. Accordingly, the Department is amending this certification to properly reflect this matter.

The intent of the Department's certification is to include all workers of Paxar Corporation, Graphics Division, now a subsidiary of Avery Dennison Corporation, who were adversely affected by a shift in production to Mexico.

The amended notice applicable to TA-W-59,999 is hereby issued as follows:

All workers of Paxar Corporation, Graphics Division, Huber Heights, Ohio, now known as Paxar Corporation—a subsidiary of Avery Dennison Corporation, and now located in Miamisburg, Ohio, who became totally or partially separated from employment on or after August 31, 2005, through September 14, 2008, are eligible to apply for adjustment assistance under section 223 of the Trade Act of 1974, and are also eligible to apply for alternative trade adjustment assistance under section 246 of the Trade Act of 1974.

Signed at Washington, DC this 1st day of August 2007.
Richard Church,
Certifying Officer, Division of Trade Adjustment Assistance.

[FR Doc. E7-15537 Filed 8-8-07; 8:45 am]

BILLING CODE 4510-FN-P